DEPARTMENT OF STATE

[Delegation of Authority 304]

Delegation by the Secretary of State to the Under Secretary for Arms Control and International Security of Authority To Submit Certain Non-proliferation Reports to the Congress

By virtue of the authority vested in me as Secretary of State, including section 1 of the State Department Basic Authorities Act, as amended (22 U.S.C. 2651a), I hereby delegate to the Under Secretary for Arms Control and International Security the authority to approve submission of reports to the Congress pursuant to:

(1) Section 1344 of the Foreign Relations Authorization Act, Fiscal Year 2003, Public Law 107-228;

(2) Section 2809(c)(2) of the Foreign Affairs Reform and Restructuring Act of 1998, Public Law 105-277;

(3) Section 1343(a) of the Iran Nuclear Proliferation Prevention Act of 2002 (incorporated in the Foreign Relations Authorization Act, Fiscal Year 2003), Public Law 107-228;

(4) Section 204(c) of the International Emergency Economic Powers Act (50 U.S.C. 1701 et. seq.) and section 401(c) of the National Emergencies Act, (50 U.S.C. 1601 et. seq.);

(5) Section 1308(a) of the Foreign Relations Authorization Act for FY 2003, Public Law 107-228; and

(6) Determination and Congressional Reporting Requirement Concerning Israeli Participation in the IAEA required by the Foreign Operations, Export Financing, and Related Programs Appropriations Act, 2006, Title II of Public Law 109-102.

Any act, executive order, regulation or procedure subject to, or affected by, this delegation shall be deemed to be such act, executive order, regulation or procedure as amended from time to time.

Notwithstanding this delegation of authority, the Secretary or the Deputy Secretary may at any time exercise any authority or function delegated by this delegation of authority. This delegation of authority shall be published in the Federal Register.

Dated: February 16, 2006.
Condoleezza Rice,
Secretary of State, Department of State.

[FR Doc. E8-10112 Filed 5-6-08; 8:45 am]

BILLING CODE 4710-10-P